DEPARTMENT OF THE TREASURY

Submission for OMB Review; Comment Request

September 26, 2011.

The Department of Treasury will submit the following public information collection requirement to OMB for review and clearance under the Paperwork Reduction Act of 1995, Public Law 104-13 on or after the publication date of this notice. A copy of the submission may be obtained by calling the Bureau Information Clearance Officer listed. Comments regarding this information collection should be addressed to the OMB reviewer listed and to the Treasury PRA Clearance Officer, Department of the Treasury, 1750 Pennsylvania Avenue, NW., Suite 11010, Washington, DC 20220.

DATES: Written comments should be received on or before October 31, 2011 to be assured of consideration.

Community Development Financial Instutitions (CDFI) Fund

OMB Number: 1559-0028.

Type of Review: Revision of a currently approved collection.

Title: The Community Development Financial Institutions Program—Certification Application.

Abstract: The certification application will be used to determine whether an entity seeking CDFI certification or recertification meets the Fund's requirements for such certification as set forth in 12 CFR 1805.201.

Estimated Total Annual Burden Hours: 11,250.

CDFI Fund Clearance Officer: Charles McGee, Community Development Financial Institutions Fund, Department of the Treasury, 601 13th Street, NW., Suite 205, Washington, DC 20005; (202) 622-8453

OMB Reviewer: Shagufta Ahmed, Office of Management and Budget, New Executive Office Building, Room 10235, Washington, DC 20503; (202) 395-7873

Dawn D. Wolfgang,
Treasury PRA Clearance Officer.

[FR Doc. 2011-25112 Filed 9-28-11; 8:45 am]

BILLING CODE 4810-70-P